DEPARTMENT OF HEALTH AND HUMAN SERVICES

Centers for Disease Control and Prevention

[30 Day-13-12LR]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7570 or send an email to omb@cdc.gov. Send written comments to CDC Desk Officer, Office of Management and Budget, Washington, DC or by fax to (202) 395-5806. Written comments should be received within 30 days of this notice.

Proposed Project

Community Transformation Grants: Evaluation of Nutrition, Physical Activity, and Obesity-related Television Media Campaigns—New—National Center for Chronic Disease Prevention and Health Promotion (NCCDPHP), Centers for Disease Control and Prevention (CDC).

Background and Brief Description

Although there is growing evidence of the impact of tobacco control media campaigns on tobacco use, less is known about the effectiveness of media campaigns targeting nutrition, physical activity, and obesity (NPAO). A number of Community Transformation Grant (CTG) program awardees have developed messages about the importance of regular physical activity, fruit and vegetable consumption, and avoidance of sugar-sweetened beverages. These efforts provide a unique opportunity to establish an evidence base for obesity prevention communication efforts operating within the broader context of community-level change efforts.

As part of a multi-component evaluation plan for the CTG program, CDC is seeking OMB approval to collect the information needed to evaluate the effectiveness of NPAO-targeted local television media campaigns. The items of information to be collected focus on the following areas: Audience awareness and recall of local campaigns; reactions to and perceptions of campaign messages; NPAO-related knowledge, attitudes, and beliefs; support for NPAO-related policy/environmental change; intentions to change NPAO-related behaviors; NPAO-related behaviors; and socio-demographic characteristics. This information will be used to evaluate the impact of these efforts on key NPAO-related outcomes and to examine the extent to which campaign effectiveness varies by characteristics and stylistic features of different campaign advertisements. The information will inform the CTG Program and other NPAO-targeted media campaigns and help to improve the clarity, salience, appeal, and persuasiveness of messages and campaigns supporting CDC's mission.

Information will be collected through Web surveys to be self-administered at home on personal computers. Surveys will be administered to approximately 15,399 adult members of Research Now (RN) panel, a large online panel of the U.S. population. Information will be collected once, with an expected burden of approximately 30 minutes per survey. CDC estimates that approximately 25,665 individuals must be contacted for screening and consent in order to yield the target number of completed surveys. The estimated burden response for the initial contact is three minutes.

Participation is voluntary and there are no costs to respondents other than their time. CDC's authority to collect information for public health purposes is provided by the Public Health Service Act (41 U.S.C. 241) Section 301. Approval for this information collection is requested for one year. The total estimated annualized burden hours are 8,983.

Estimated Annualized Burden Hours
Type of respondent | Form name | Number of respondents | Number of responses per respondent | Average burden per response (in hours)
Adults, ages 18-54 in the U.S | Welcome to the Health and Media Survey | 25,665 | 1 | 3/60
| Health and Media Survey | 15,399 | 1 | 30/60

Dated: October 18, 2012.
Ron A. Otten,
Director, Office of Scientific Integrity (OSI), Office of the Associate Director for Science (OADS), Office of the Director, Centers for Disease Control and Prevention.

[FR Doc. 2012-26272 Filed 10-24-12; 8:45 am]

BILLING CODE 4163-18-P